DEPARTMENT OF THE INTERIOR

Bureau of Land Management

[LLAZC01000.L51010000.FX0000.LVRWA09A2310.241A; AZA 32315AA]

Notice of Availability of the Final Environmental Impact Statement for the Proposed Mohave County Wind Farm Project, AZ

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Final Environmental Impact Statement (EIS) for the proposed Mohave County Wind Farm Project (Project) and by this notice is announcing its availability.

DATES: The Final EIS will be available at the locations listed below for 30 days from the date the Environmental Protection Agency publishes the Notice of Availability.

ADDRESSES: Copies of the Final EIS for the proposed Project have been mailed to cooperating agencies and other stakeholders. Copies are available at the BLM Kingman Field Office, 2755 Mission Boulevard, Kingman, AZ 86401, and at the BLM Arizona State Office, One North Central Avenue, Suite 800, Phoenix, AZ 85004. The Final EIS is also available at the following public libraries:

• Kingman Public Library, 3269 North Burbank Street, Kingman, AZ 86402-7000

• Kingman Valle Vista Community Library, 7264 Concho Dr. Ste. B, Kingman, AZ 86401

• Hualapai Cultural Center, 800 W. Route 66, Peach Springs, AZ 86434

• Boulder City Library, 701 Adams Blvd., Boulder City, NV 89005

• Dolan Springs Public Library, 16140 Pierce Ferry Road, Dolan Springs, AZ 86441-0427

The Final EIS may also be viewed at the following Web site: http://www.blm.gov/az/st/en/prog/energy/wind/mohave.html.

FOR FURTHER INFORMATION CONTACT: Jackie Neckels, Environmental Coordinator, telephone 602-417-9262; address BLM Arizona State Office, Renewable Energy Coordination Office, One North Central Avenue, Suite 800, Phoenix, AZ 85004-4427; or email at KFO_WindEnergy@blm.gov. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The BLM is the lead Federal agency under NEPA for the proposed Project. Cooperating agencies include the Western Area Power Administration (Western); Bureau of Reclamation—Lower Colorado Region (Reclamation); National Park Service—Lake Mead National Recreation Area; Mohave County; Arizona Game and Fish Department; and the Hualapai Tribe Department of Cultural Resources.

The BLM's purpose and need is to respond to BP Wind Energy North America's application for a right-of-way (ROW) under FLPMA to construct, operate, and maintain a wind-farm project. In accordance with Section 1702(c) of FLPMA, public lands administered by the BLM are to be managed for multiple-use that takes into account the long-term needs of future generations for renewable and non-renewable resources. Approval of a ROW grant for the wind farm would assist the BLM in meeting the objectives of the Energy Policy Act and Secretarial Order 3287A1, that establishes development of environmentally responsible renewable energy as a priority for the Department of the Interior. The BLM's decision is to deny, approve, or approve with modifications the ROW for the proposed wind farm.

The applicant, BP Wind Energy North America, applied for a ROW to construct, operate, maintain, and decommission a 500-megawatt (MW) wind farm, including turbine generators and associated infrastructure, on approximately 38,099 acres of public lands and approximately 8,960 acres of land managed by Reclamation, totaling approximately 47,059 acres of Federal land. The Project area is located in the White Hills area 40 miles northwest of Kingman, Arizona, 9 miles south of the Colorado River, and 20 miles southeast of Hoover Dam. A map of the proposed Project area and a legal description are available on the BLM Web site at http://www.blm.gov/az/st/en/prog/energy/wind/mohave.html.

The Project is proposed to consist of up to 283 turbines, access roads, and ancillary facilities. The turbine generators would be selected from those with a power output ranging from 1.5 to 3.0 MW each. To the extent possible, existing roads would be used to reduce potential impacts associated with the construction of new roads. Roads would be improved as needed, and the road network would be supplemented with internal access/service roads to each wind turbine.

Proposed ancillary facilities include pad-mounted transformers, an underground 34.5-kilovolt (kV) electrical collection system between the turbines, and distribution connector lines (either underground or above-ground) tying the turbine strings to either a 345-kV or a 500-kV electrical substation. This would provide interconnection with the regional power grid through the substation to a new switchyard at one of two major electric transmission lines transecting the Project area. The lines, which are administered by Western, are the 345-kV Liberty-Mead line and the 500-kV Mead-Phoenix line. Scoping was initiated with the publication of a Notice of Intent (NOI) in the Federal Register on November 20, 2009 (74 FR 60289), and conducted from November 20, 2009, through January 8, 2010. Three public meetings and an agency meeting were held in Kingman, Dolan Springs, and White Hills, Arizona. A supplemental scoping period was initiated with the publication of a second NOI on July 26, 2010 (75 FR 43551) that concluded on September 9, 2010. Four public scoping meetings were held during the supplemental scoping period: One at each of the three original scoping-meeting communities and an additional meeting in Peach Springs, Arizona, at the Hualapai Tribe Cultural Center. The BLM considered all input received from the start of the first scoping period (November 20, 2009) to the end of the second scoping period (September 9, 2010).

Public and cooperating agency concerns/comments identified the following issues (percentage of comments for each issue in parentheses): Biological resources (23 percent); Project description (17 percent); socioeconomics (9 percent); land use, recreation, and transportation (8 percent); NEPA process (7 percent); visual resources (6 percent); Project alternatives (5 percent); cumulative effects (4 percent); noise (4 percent); Project need (3 percent); air quality (3 percent); geology and minerals (3 percent); water resources (3 percent); cultural resources (2 percent); and hazardous materials and safety (1 percent). These issues were addressed in the Draft EIS released for public comment on April 27, 2012. The 45-day comment period for the Draft EIS closed on June 11, 2012.

The Final EIS considered the impacts of the proposed action, other action alternatives, and a no action alternative. The Alternative A (proposed action) wind-farm site would encompass approximately 38,099 acres of public lands and approximately 8,960 acres of land managed by Reclamation. As with all action alternatives, Project features within the wind-farm site would include turbines aligned within corridors, access roads, electrical collection system, an operations and maintenance building, two temporary laydown/staging areas (with temporary batch plant operations), two substations, and a switchyard. The number of turbines constructed would vary depending on the turbine type that is installed, but Alternative A proposes more turbines than the other alternatives. Alternative A could support development of a maximum of 283 turbines. Western's Federal action would be to execute an interconnection agreement, and design, construct, own, operate, and maintain the Project switchyard and physical interconnection to the existing transmission line under all alternatives.

The Alternative B wind-farm site would encompass approximately 30,872 acres of public lands and approximately 3,848 acres of land managed by Reclamation. Alternative B reduces the wind-farm site footprint and has fewer turbines than Alternative A, with the intent of reducing visual and noise impacts on Lake Mead National Recreation Area primarily and secondarily on private property. The number of turbines constructed would vary depending on the turbine type that is installed, but Alternative B could support development of a maximum of 208 turbines. This alternative would have the fewest number of turbines on Reclamation land compared to Alternatives A and C. Turbine corridors on public lands would either be shortened or eliminated on the north, east, and south sides of the Project area to increase the distance of turbines from private land and National Park Service land.

The Alternative C wind-farm site would encompass approximately 30,178 acres of public lands and approximately 5,124 acres of land managed by Reclamation. Alternative C also reduces the wind-farm site footprint and has fewer turbines than Alternative A, with the intent of reducing visual and noise impacts primarily on private property and secondarily on Lake Mead National Recreation Area. The number of turbines constructed would vary depending on the turbine type that is installed, but Alternative C could support development of a maximum of 208 turbines. Alternative C differs from Alternative B in that there would be one additional turbine corridor on Reclamation land, but the corridors on public lands on the eastern side of the wind-farm site would be shortened even further to increase the distance of turbines from private lands.

Alternative D is the no action alternative, which provides a baseline against which action alternatives can be compared. Alternative D includes an analysis of effects from not developing the Project. Alternative D assumes that no actions associated with the Project would occur, and no ROWs or interconnections would be granted. The public lands would continue to be managed in accordance with the Kingman Field Office Resource Management Plan, and the Reclamation-administered lands would continue to be managed by Reclamation. Capacity on Western's transmission lines would remain available for other projects.

Alternative E, BLM's preferred alternative, is a wind-farm site that represents a combination of the proposed action, Alternative A, and Alternative B. This alternative would consist of approximately 35,329 acres of public lands and approximately 2,781 acres of Reclamation-administered land. The preferred alternative is smaller than Alternative A but larger than Alternative B. The preferred alternative has 4,457 more acres of public lands and 1,067 fewer acres of Reclamation land than Alternative B. The preferred alternative considered factors to avoid, minimize, and mitigate identified impacts to resources such as visual, noise, and wildlife. The preferred alternative removed turbines in the northwest section of the Project site due to identified golden eagle nests. These removals also addressed noise and visual concerns from the National Park Service, Lake Mead National Recreation Area. The preferred alternative also implements a minimum ¼-mile set back from private land and in some instances a larger distance due to visual and noise resource concerns. To further protect golden eagles, this alternative excludes turbines within a 1.25-mile area around golden eagle nests in the northwest portion of the proposed facility and provides an additional buffer that curtails turbine operation during nesting season and eagle activity, i.e., during daylight hours. The preferred alternative allows for flexibility on the size and number of turbines (1.5 MW to 3.0 MW) to allow the developer to meet Western's 425 MW or 500 MW nameplate capacity. The generation size depends on the interconnection to either the 345-kV or 500-kV transmission line.

The BLM has consulted, and will continue to consult, with Indian tribes on a government-to-government basis in accordance with Executive Order 13175 and other policies. Tribal concerns, including impacts on Indian trust assets and potential impacts to cultural resources were, and will continue to be, given due consideration.

Authority: 40 CFR 1506.6 and 1506.10.

Raymond Suazo,
State Director.

[FR Doc. 2013-11826 Filed 5-16-13; 8:45 am]

BILLING CODE 4310-32-P